DEPARTMENT OF COMMERCE

National Oceanic and Atmospheric Administration

15 CFR Part 902

[Docket No. 110819516-5999-03]

RIN 0648-BB02

Atlantic Highly Migratory Species; Smoothhound Shark Management Measures

AGENCY: National Marine Fisheries Service (NMFS), National Oceanic and Atmospheric Administration (NOAA), Commerce.

ACTION: Final rule; effective date of OMB control numbers.

SUMMARY: NMFS announces approval by the Office of Management and Budget (OMB) of collection-of-information requirements contained in regulations pertaining to the U.S. Atlantic smoothhound shark fisheries in a final rule that was published on November 24, 2015. The intent of this final rule is to inform the public of the effectiveness of the collection-of-information requirements associated with the commercial smoothhound shark permit.

DATES: This final rule is effective on March 15, 2016.

ADDRESSES: Written comments regarding burden-hour estimates or other aspects of the collection-of-information requirements contained in this final rule may be submitted by email to OIRA_Submission@omb.eop.gov, or fax to (202) 395-7285.

FOR FURTHER INFORMATION CONTACT: Steve Durkee by phone at 202-670-6637 or email at steve.durkee@noaa.gov.

SUPPLEMENTARY INFORMATION: Atlantic sharks, including smoothhound sharks, are managed under the authority of the Magnuson-Stevens Fishery Conservation and Management Act (Magnuson-Stevens Act), and the authority to promulgate regulations under the Magnuson-Stevens Act has been delegated from the Secretary to the Assistant Administrator for Fisheries, NOAA. On October 2, 2006, NMFS published in the Federal Register (71 FR 58058) final regulations, effective November 1, 2006, which detailed management measures for Atlantic Highly Migratory Species (HMS) fisheries, including for the Atlantic shark fisheries. The implementing regulations for the 2006 Consolidated HMS FMP and its amendments are at 50 CFR part 635.

The final rule implementing Amendment 9 to the 2006 Consolidated Atlantic HMS Fishery Management Plan (FMP) (Amendment 9) was published on November 24, 2015 (80 FR 73128) and included measures to bring smoothhound sharks under Federal management. Among these measures was a commercial smoothhound shark permit requirement for Federal smoothhound shark fishermen in the Atlantic Ocean and Gulf of Mexico. At the time of publication of the final rule implementing Amendment 9, collection-of-information requirements associated with the smoothhound shark permit were pending approval by OMB.

OMB approved the collection-of-information requirements contained in the final rule on December 10, 2015. Additionally, the application for the smoothhound shark permit is now available.

Classification

Paperwork Reduction Act

This rule makes effective a collection-of-information requirement subject to the Paperwork Reduction Act. The collection of this information has been approved by the Office of Management and Budget (OMB) under OMB Control Number 0648-0205. This collection is revised to add a commercial smoothhound shark permit in association with Amendment 9 to the HMS FMP (Amendment 9). Among other things, Amendment 9 implements a commercial smoothhound shark permit requirement for vessels retaining smoothhound sharks caught in Federal waters of the Atlantic Ocean, including the Gulf of Mexico and Caribbean Sea. This permit requirement will aid in identifying the participants in the smoothhound shark fishery to facilitate information gathering for fishery management and quota monitoring, facilitate enforcement of fishing regulations, and help maintain a sustainable fishery. The commercial smoothhound shark permitting requirement will become effective on March 15, 2016. NMFS estimates up to 500 applicants for the new permit with each response taking 30 minutes. Thus, this revision will add 500 respondents, 500 responses, and 250 burden hours to fill out and submit an application for a commercial smoothhound shark permit. Additionally, a $25 application fee will result in a total of $12,500 additional cost to OMB Control Number 0648-0205.

Administrative Procedure Act

Pursuant to 5 U.S.C. 553(b)(B), there is good cause to waive prior notice and opportunity for public comment for this action because notice and comment would be unnecessary and contrary to the public interest. This action simply provides notice of OMB's approval of the reporting requirements at issue, which has already occurred, and renders those requirements effective. Thus, this action does not involve any further exercise of agency discretion and no comment received at this time would impact any decision by NMFS or OMB. In addition, the public has had the opportunity to comment on both the substance of the reporting requirements, at the time NMFS adopted them, and on NMFS' request to OMB for revision of the information collection. The reporting requirements at issue were detailed in a proposed rule on which NMFS accepted public comment. The reporting provisions in 50 CFR 635.4 were initially published at 79 FR 56047 on September 18, 2014, with comments accepted until November 14, 2014, and published as a final rule at 80 FR 73128 on November 24, 2015. An additional opportunity for public comment at this point would not be meaningful, and would be duplicative.

Regulatory Flexibility Act

Because prior notice and opportunity for public comment are not required for this rule by 5 U.S.C. 553, or any other law, the analytical requirements of the Regulatory Flexibility Act, 5 U.S.C. 601, et seq., are inapplicable.

Executive Order 12866

This final rule has been determined to be not significant for purposes of Executive Order 12866.

List of Subjects in 15 CFR Part 902

Reporting and recordkeeping requirements.

Dated: December 14, 2015.
Samuel D. Rauch III,
Deputy Assistant Administrator for Regulatory Programs, National Marine Fisheries Service.

For the reasons set out in the preamble, NMFS amends 15 CFR part 902 as follows:

Title 15—Commerce and Foreign Trade

PART 902—NOAA INFORMATION COLLECTION REQUIREMENT UNDER THE PAPERWORK REDUCTION ACT: OMB CONTROL NUMBERS

1. The authority citation for part 902 continues to read as follows:

Authority: 44 U.S.C. 3501 et seq.

2. In § 902.1, in the table in paragraph (b), under the entry “50 CFR”, add an entry in alphanumeric order for “635.4(e)(4)” to read as follows:

§ 902.1 OMB control numbers assigned pursuant to the Paperwork Reduction Act.

* * * * *

(b) * * *

CFR part or section where the information collection requirement is located | Current OMB control No. (all numbers begin with 0648-)
* * * * *
50 CFR |
* * * * *
635.4(e)(4) | −0205
* * * * *

[FR Doc. 2015-31782 Filed 12-15-15; 11:15 am]

BILLING CODE 3510-22-P